DEPARTMENT OF AGRICULTURE

Submission for OMB Review; Comment Request

September 24, 2013.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology.

Comments regarding this information collection received by October 30, 2013 will be considered. Written comments should be addressed to: Desk Officer for Agriculture, Office of Information and Regulatory Affairs, Office of Management and Budget (OMB), New Executive Office Building, 725—17th Street NW., Washington, DC 20502. Commenters are encouraged to submit their comments to OMB via email to: OIRA_Submission@OMB.EOP.GOV or fax (202) 395-5806 and to Departmental Clearance Office, USDA, OCIO, Mail Stop 7602, Washington, DC 20250-7602. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Animal and Plant Health Inspection Service

Title: Importation of Table Eggs from Regions Where Newcastle Disease Exists.

OMB Control Number: 0579-0328.

Summary of Collection: The Animal Health Protection Act (AHPA) of 2002 is the primary Federal law governing the protection of animal health. The law gives the Secretary of Agriculture broad authority to detect, control, or eradicate pests or diseases of livestock or poultry. Veterinary Services, a program with the Animal and Plant Health Inspection Service (APHIS) is responsible for administering regulations intended to prevent the introduction of animal disease in the United States. Regulations in title 9, Code of Federal Regulations, section 94.6 deal specifically with the importation of table eggs from certain regions that may pose a risk of introducing Exotic Newcastle Disease (END) into the United States.

Need and Use of the Information: Although this collection applies to any region where END is considered to exist, the United States is not currently importing table eggs from any END-affected region. APHIS requires the following with regard to imported table eggs: (1) A certificate for table eggs from END-affected regions; and (2) a government seal issued by the veterinarian accredited by the national government who signed the certificate. If the information were collected less frequently or not collected at all, APHIS would be unable to establish an effective defense against the incursion of END from table eggs imported from END-affected regions. This could have serious health consequences for U.S. poultry and economic consequences for the U.S. poultry industry.

Description of Respondents: Federal Government.

Number of Respondents: 1.

Frequency of Responses: Reporting: On occasion.

Total Burden Hours: 3.

Ruth Brown,
Departmental Information Collection Clearance Officer.

[FR Doc. 2013-23752 Filed 9-27-13; 8:45 am]

BILLING CODE 3410-34-P